SMALL BUSINESS ADMINISTRATION

[License No. 06/06-0352]

Notice Seeking Exemption Under Section 312 of the Small Business Investment Act, Conflicts of Interest; LCM Healthcare Fund I, L.P.

Notice is hereby given that LCM Healthcare Fund I, L.P., 1717 Main Street, Suite 3370, Dallas, TX 75201, a Federal Licensee under the Small Business Investment Act of 1958, as amended (“the Act”), in connection with the financing of a small concern, is seeking an exemption under Section 312 of the Act and Section 107.730, Financings which Constitute Conflicts of Interest of the Small Business Administration (“SBA”) Rules and Regulations (13 CFR 107.730). LCM Healthcare Fund I, L.P. is seeking a written exemption from SBA for a proposed financing to Northwest Surgical Development Company, Inc., 65 Enterprise, Suite 125, Aliso Viejo, CA 92656.

This financing is brought within the purview of § 107.730(a)(1) of the Regulations because LCM Healthcare Fund I, L.P. will provide equity financing to an Associate not on the same terms and conditions nor at the same time in Northwest Surgical Development Company, Inc. Therefore, this transaction is considered as Other Financings with Associates which requires SBA's prior written exemption. LCM Healthcare Fund I, L.P. has not made its proposed new investment in Northwest Surgical Development Company, Inc. and is seeking SBA prefinancing approval.

Notice is hereby given that any interested person may submit written comments on this transaction within fifteen days of the date of this publication to the Associate Administrator, Office of Investment and Innovation, U.S. Small Business Administration, 409 Third Street SW, Washington, DC 20416.

Thomas Morris,
Director, Patient Capital Investments, Office of Investment and Innovation, U.S. Small Business Administration.

[FR Doc. 2025-05265 Filed 3-26-25; 8:45 am]

BILLING CODE 8026-09-P